DEPARTMENT OF TRANSPORTATION

Federal Aviation Administration

Notice of Release From Federal Surplus Property and Grant Assurance Obligations at Redding Municipal Airport (RDD), Redding, California

AGENCY: Federal Aviation Administration, DOT.

ACTION: Notice of request to release airport land.

SUMMARY: The Federal Aviation Administration (FAA) proposes to rule and invites public comment on the application for a release of approximately 1.10 acres of airport property at the Redding Municipal Airport (RDD), Redding, California from all conditions contained in the Surplus Property Deed and Grant Assurances because the parcel of land is not needed for airport purposes. The land requested to be released is separated from the airport by Airport Road and located outside the airport fence at the southwest corner of the airport property. The release will allow the City of Redding to sell the property at its fair market value, thereby benefiting the Airport and serving the interest of civil aviation. The proposed use will be compatible with the airport and will not interfere with the airport or its operation.

DATES: Comments must be received on or before September 21, 2016.

FOR FURTHER INFORMATION CONTACT: Comments on the request may be mailed to the FAA at the following address: James W. Lomen, Manager, Federal Aviation Administration, San Francisco Airports District Office, Federal Register Comment, 1000 Marina Boulevard, Suite 220, Brisbane, CA 94005. In addition, one copy of the comment submitted to the FAA must be mailed to Mr. Rod Dinger, Airport Director, Redding Municipal Airport, 6751 Woodrum Circle, Suite 200, Redding, CA 96002.

SUPPLEMENTARY INFORMATION: In accordance with the Wendell H. Ford Aviation Investment and Reform Act for the 21st Century (AIR 21), Public Law 106-181 (Apr. 5, 2000; 114 Stat. 61), this notice must be published in the Federal Register 30 days before the Secretary may waive any condition imposed on a federally obligated airport by surplus property conveyance deeds or grant agreements.

The following is a brief overview of the request:

The City of Redding, California requested a release from Federal surplus property and grant assurance obligations for approximately 1.10 acres of airport land to allow for its sale. The property was originally acquired pursuant to the Surplus Property Act of 1944 and was deeded to the City of Redding on June 6, 1949. The parcel of land is located on the southwest side of the airport along Meadow View Drive and Airport Road. The property is separated from the airfield by Airport Road and the airport perimeter fence.

The parcel of land is undeveloped, has no structural improvements, and has not been used for aviation purposes for over 20 years. The City of Redding will sell the 1.10 acres of property at fair market value and redeveloped for commercial business purposes.

The sales proceeds will be devoted to airport operations and capital projects. The reuse of the property will not interfere with the airport or its operation and will thereby serve the interests of civil aviation.

Issued in Brisbane, California, on August 10, 2016.
James W. Lomen,
Manager, San Francisco Airports District Office, Western-Pacific Region.

[FR Doc. 2016-20001 Filed 8-19-16; 8:45 am]

BILLING CODE 4910-13-P